GENERAL SERVICES ADMINISTRATION

41 CFR Chapter 301

[FTR Amendment 87]

RIN 3090-AH18

Federal Travel Regulation; Maximum Per Diem Rates and Other Travel Allowances; Correction

AGENCY: Office of Governmentwide Policy, GSA.

ACTION: Final rule; correction.

SUMMARY: This document corrects entries listed in the prescribed maximum per diem rates for locations within the continental United States (CONUS) contained in a final rule appearing in Part III of the Federal Register of Thursday, December 2, 1999 (64 FR 67670). The rule, among other things, increased/decreased the maximum lodging amounts in certain existing per diem localities, added new per diem localities, and removed a number of previously designated per diem localities.

EFFECTIVE DATE: January 1, 2000.

FOR FURTHER INFORMATION CONTACT: Joddy P. Garner, Office of Governmentwide Policy (MTT), Washington, DC 20405, telephone 202-501-4857.

SUPPLEMENTARY INFORMATION: In rule document 99-31215 beginning on page 67670 in the issue of Thursday, December 2, 1999, make the following corrections:

Appendix A to Chapter 301 [Corrected]

1. On page 67674, under the State of Colorado, city of Aspen, the seasonal dates, column one and lodging rates, column three are revised to read as follows: “January 1-March 31 $163, April 1-May 31 $68, June 1-December 31 $140”.

2. On page 67678, under the State of Louisiana, the names of cities of New Orleans/Plaquemine/St. Bernard, column two is revised to read as follows: “Orleans, Iberville, Jefferson Parish and St. Bernard”.

Pages 67674 and 67678, as corrected, read as follows:

Appendix A to Chapter 301—Prescribed Maximum Per Diem Rates for CONUS

* * * * *

BILLING CODE 6820-34-P

Dated: May 11, 2000.
Peggy G. DeProspero,
Acting Director, Travel Management Policy Division.

[FR Doc. 00-12340 Filed 5-18-00; 8:45 am]

BILLING CODE 6820-34-C